DEPARTMENT OF TRANSPORTATION

Federal Aviation Administration

14 CFR Part 73

[Docket No. FAA-2023-0504; Airspace Docket No. 21-ASO-25]

RIN 2120-AA66

Amendment of Restricted Areas R-3004A, R-3004B, and R-3004C; Fort Gordon, GA

AGENCY: Federal Aviation Administration (FAA), DOT.

ACTION: Final rule.

SUMMARY: This action amends restricted areas R-3004A, R-3004B, and R-3004C at United States (U.S.) Army Installation Management Command (IMCOM) Fort Gordon, GA. The amended airspace aligns the lateral boundaries to encompass the majority of the training complex and amends the vertical divisions for better management to activate only the airspace required to support the Army's training. It also removes restrictions on participating aircraft operations on weekends, flight above 12,000 feet above ground level (AGL), and the requirement that weather minima exceed standard Visual Flight Rules (VFR) criteria.

DATES: Effective date 0901 UTC, November 27, 2025.

ADDRESSES: A copy of the notice of proposed rulemaking (NPRM), all comments received, this final rule, and all background material may be viewed online at www.regulations.gov using the FAA Docket number. Electronic retrieval help and guidelines are available on the website. It is available 24 hours each day, 365 days each year.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends restricted areas R-3004A, R-3004B, and R-3004C at Fort Gordon, GA, to enhance aviation safety and accommodate essential U.S. Army training activities.

History

The FAA published a NPRM for Docket No. FAA-2023-0504 in the Federal Register (88 FR 21146; April 10, 2023), proposing to amend restricted areas R-3004A, R-3004B, and R-3004C at Fort Gordon, GA. Interested parties were invited to participate in this rulemaking effort by submitting written comments on the proposal to the FAA. Two comments were received.

Two commenters expressed concern that expanding the restricted area airspace toward Daniel Field Airport, GA, would cause aircraft arriving and departing runway 5 and runway 23 at Daniel Field Airport, to the south, to be funneled into a small corridor between restricted areas R-3004A and R-3004B and the Augusta Regional at Bush Field Airport, GA, Class D airspace which may lead to an increase in airspace incursions. Prior to this final rule, the distance between restricted area R-3004A and R-3004B and the western edge of the Augusta Regional at Bush Field Airport Class D airspace was 6.8 nautical miles (NM). The FAA recognizes that when these restricted areas are active, the distance available for aircraft to maneuver between the eastern boundary of restricted area R-3004A and R-3004B and the western edge of the Augusta Regional at Bush Field Airport Class D airspace would be reduced to 3.6 NM. When the restricted areas are active, pilots are not required to navigate between the restricted areas and the Augusta Regional at Bush Field Airport Class D airspace. Pilots can remain further away from R-3004A and R-3004B by flying either above the Augusta Regional at Bush Field Airport Class D airspace, maintain two-way communications with the Augusta Airport Traffic Control Tower (ATCT) and fly though the Augusta Regional at Bush Field Airport Class D airspace, fly above the active portions of the restricted areas, or circumnavigate the restricted areas to the north and west. Additionally, arrivals and departures to the West, North, and East of Daniel Field Airport are unaffected by the expansion of restricted areas R-3004A, R-3004B, and R-3004C.

Two commenters expressed concern that the activation of restricted areas R-3004A, R-3004B, and R-3004C would restrict the use of the Area Navigation (RNAV) runway 5 approach at the Daniel Field Airport. In a letter of agreement (LOA) between the Atlanta Air Route Traffic Control Center (ARTCC), Augusta ATCT, and Fort Gordon, a recall area has been agreed upon that would return a portion of R-3004 to air traffic control (ATC) in order to facilitate arrival approaches on the RNAV runway 5 approach to the Daniel Field Airport when it is needed.

One commenter said that this action would lower the floor of restricted areas R-3004A and R-3004B to such a degree that many pilots would no longer be able to fly under them. The commenter recommends that the current floors of restricted areas R-3004A and R-3004B be retained. The FAA does not agree with retaining the original floor altitudes. Prior to this final rule, restricted area R-3004A extended from the surface to but not including 3,500 feet mean sea level (MSL). This final rule does not lower the floor of restricted area R-3004A as the floor continues to be at the surface. When restricted area R-3004A is active, aircraft are unable to fly under the restricted area. Prior to this final rule restricted area R-3004B was designated from 3,500 feet MSL to but not including 7,000 feet MSL. Although this final rule does lower the floor of restricted area R-3004B from 3,500 feet MSL to 2,500 feet MSL, due to the nature of the training being conducted, restricted area R-3004B is normally only active simultaneously with the activation of restricted area R-3004A, which would not allow aircraft to fly under restricted area R-3004B, regardless of the floor altitude. Additionally, since restricted area R-3004A would contain the majority of day-to-day training requirements, restricted area R-3004B would be activated less frequently. This would have the effect that when only restricted area R-3004A is active, the airspace between 2,500 feet MSL and 3,500 feet MSL would be returned to the National Airspace System (NAS) and would be available for non-participating aircraft use.

One commenter expressed concern about the potential negative impact on aircraft conducting civil air ambulance flights, identified by ATC using the callsign “MEDEVAC”, that frequently arrive and depart from Daniel Field airport. In an LOA between the Atlanta ARTCC, Augusta ATCT, and Fort Gordon, provisions are made to allow for ATC to coordinate individual flights, such as civil air ambulance flights, to transit the restricted areas when they are active. As such, the FAA expects minimal impact to civil air ambulance flights.

One commenter expressed concern that activation of restricted areas R-3004A, R-3004B, and R-3004C on Saturdays and Sundays would have a magnified impact on general aviation and flight training users that typically fly on the weekends. The commenter goes on to say that it is critical that the proponent make every effort to release the airspace promptly when it is no longer in use. In accordance with the FAA's joint-use policy, restricted areas R-3004A, R-3004B, and R-3004C must be returned to the controlling agency and become available for access by nonparticipating aircraft during periods when the airspace is not needed by the using agency for its designated purpose. Because of the joint-use policy, the FAA expects that any unused parts of the restricted areas will be deactivated and made available for use by non-participating aircraft, thus minimizing the impact on the NAS.

Subsequent to the FAA's 2023 NPRM publication, the U.S. Army changed the installation name from Fort Gordon to Fort Eisenhower. When the U.S. Army published their Final Environmental Assessment (EA) in 2024, which the FAA has since adopted, the installation name was Fort Eisenhower. However, the U.S. Army has since changed the name from Fort Eisenhower to Fort Gordon. Because the installation's current name is as proposed in the NPRM, there are no installation name differences between the NPRM and the final rule.

The Rule

This action amends 14 CFR part 73 by amending restricted areas R-3004A, R-3004B, and R-3004C at Fort Gordon, GA. The three areas share common lateral boundaries that overlay each other. R-3004A extends from the surface to but not including 2,500 feet MSL. R-3004B extends from 2,500 feet MSL to but not including 10,000 feet MSL. R-3004C extends from 10,000 feet MSL to 16,000 feet MSL. These internal altitude subdivisions reduce the need to activate all three restricted areas to accomplish daily training. This provides the flexibility to activate only those restricted area segments required for the planned training events, while leaving the unused segment(s) available for access by other aviation users.

This action modifies the southwest boundary so that the boundary is contained within installation property. Additionally, the proposal would expand the lateral limits of restricted area R-3004A, R-3004B, and R-3004C farther to the north and northeast to incorporate the majority of Fort Gordon property. This expansion modifies the lateral boundaries to be fully contained within the current boundaries of federally owned land within the Fort Gordon range complex.

The Using agency for all three restricted areas is changed to the U.S. Army, Commanding Officer, Fort Gordon, GA. Additionally, this action removes restrictions on participating aircraft activities on weekends; removes the restrictions on aircraft activities above 12,000 feet AGL; and removes restrictive weather minima. However, the following limitation is retained: “Aircraft activities must not be conducted on national holidays, or from the Sunday prior to the Masters Tournament through the Monday after (and subsequent weather days if required).”

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA's modifications to R-3004A, R-3004B, and R-3004C as described above, were evaluated and documented in accordance with the National Environmental Policy Act (NEPA) (42 U.S.C. 4321 et seq.) in the Army's “Final Environmental Assessment (EA) for Airspace and Ground-Based Changes at Fort Eisenhower, Georgia” pursuant to Section 102 of NEPA and the FAA's procedural provisions of NEPA in FAA Orders 1050.1G, and JO 7400.2, Procedures for Handling Airspace Matters which sets forth the FAA's procedures for evaluating and changing the NAS, including SUA. Since the Army's publication of the Final EA, Fort Eisenhower has been renamed Fort Gordon. The location analyzed as Fort Eisenhower in the Army's EA is identical to the location identified as Fort Gordon in this final rule. The FAA, in fulfilling its mandated role as a NEPA Cooperating Agency for the Army's proposed actions in the designated restricted areas, adopted the Army's final EA in a separate FAA NEPA adoption document and Record of Decision (ROD) in accordance with NEPA and the FAA's NEPA implementing Order 1050.1G, “FAA National Environmental Policy Act Implementing Procedures.”

Lists of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f), 106(g), 40103, 40113, 40120; E.O. 10854, 24 FR 9565, 3 CFR, 1959-1963 Comp., p.389

§ 73.30 Georgia [Amended]

2. Section 73.30 is amended as follows:

* * * * *

R-3004A Fort Gordon, GA [Amended]

Boundaries. Beginning at lat. 33°25′03″ N, long. 082°12′15″ W; to lat. 33°23′48″ N, long. 082°08′56″ W; to lat. 33°22′20″ N, long. 082°08′33″ W; to lat. 33°21′33″ N, long. 082°09′10″ W; to lat. 33°20′15″ N, long. 082°10′57″ W; to lat. 33°17′41″ N, long. 082°16′11″ W; to lat. 33°18′23″ N, long. 082°16′17″ W; to lat. 33°18′22″ N, long. 082°16′39″ W; to lat. 33°17′29″ N, long. 082°16′52″ W; to lat. 33°16′57″ N, long. 082°17′39″ W; to lat. 33°16′56″ N, long. 082°18′50″ W; to lat. 33°17′27″ N, long. 082°21′19″ W; to lat. 33°17′41″ N, long. 082°22′35″ W; to lat. 33°19′26″ N, long. 082°22′15″ W; to lat. 33°22′37″ N, long. 082°16′58″ W; to lat. 33°23′50″ N, long. 082°14′03″ W; to the point of beginning.

Designated altitudes. Surface to but not including 2,500 feet MSL.

Time of designation. By NOTAM 24 hours in advance.

Controlling agency. FAA, Atlanta ARTCC.

Using agency. U.S. Army, Commanding Officer, Fort Gordon, GA.

Remarks. Aircraft activities must not be conducted on national holidays or from the Sunday prior to the Masters Golf Tournament through the Monday after (and subsequent weather days if required).

R-3004B Fort Gordon, GA [Amended]

Boundaries. Beginning at lat. 33°25′03″ N, long. 082°12′15″ W; to lat. 33°23′48″ N, long. 082°08′56″ W; to lat. 33°22′20″ N, long. 082°08′33″ W; to lat. 33°21′33″ N, long. 082°09′10″ W; to lat. 33°20′15″ N, long. 082°10′57″ W; to lat. 33°17′41″ N, long. 082°16′11″ W; to lat. 33°18′23″ N, long. 082°16′17″ W; to lat. 33°18′22″ N, long. 082°16′39″ W; to lat. 33°17′29″ N, long. 082°16′52″ W; to lat. 33°16′57″ N, long. 082°17′39″ W; to lat. 33°16′56″ N, long. 082°18′50″ W; to lat. 33°17′27″ N, long. 082°21′19″ W; to lat. 33°17′41″ N, long. 082°22′35″ W; to lat. 33°19′26″ N, long. 082°22′15″ W; to lat. 33°22′37″ N, long. 082°16′58″ W; to lat. 33°23′50″ N, long. 082°14′03″ W; to the point of beginning.

Designated altitudes. 2,500 feet MSL to but not including 10,000 feet MSL.

Time of designation. By NOTAM 24 hours in advance.

Controlling agency. FAA, Atlanta ARTCC.

Using agency. U.S. Army, Commanding Officer, Fort Gordon, GA.

Remarks. Aircraft activities must not be conducted on national holidays or from the Sunday prior to the Masters Golf Tournament through the Monday after (and subsequent weather days if required).

R-3004C Fort Gordon, GA [Amended]

Boundaries. Beginning at lat. 33°25′03″ N, long. 082°12′15″ W; to lat. 33°23′48″ N, long. 082°08′56″ W; to lat. 33°22′20″ N, long. 082°08′33″ W; to lat. 33°21′33″ N, long. 082°09′10″ W; to lat. 33°20′15″ N, long. 082°10′57″ W; to lat. 33°17′41″ N, long. 082°16′11″ W; to lat. 33°18′23″ N, long. 082°16′17″ W; to lat. 33°18′22″ N, long. 082°16′39″ W; to lat. 33°17′29″ N, long. 082°16′52″ W; to lat. 33°16′57″ N, long. 082°17′39″ W; to lat. 33°16′56″ N, long. 082°18′50″ W; to lat. 33°17′27″ N, long. 082°21′19″ W; to lat. 33°17′41″ N, long. 082°22′35″ W; to lat. 33°19′26″ N, long. 082°22′15″ W; to lat. 33°22′37″ N, long. 082°16′58″ W; to lat. 33°23′50″ N, long. 082°14′03″ W; to the point of beginning.

Designated altitudes. 10,000 feet MSL to 16,000 feet MSL.

Time of designation. By NOTAM 24 hours in advance.

Controlling agency. FAA, Atlanta ARTCC.

Using agency. U.S. Army, Commanding Officer, Fort Gordon, GA.

Remarks. Aircraft activities must not be conducted on national holidays or from the Sunday prior to the Masters Golf Tournament through the Monday after (and subsequent weather days if required).

* * * * *

Issued in Washington, DC, on September 4, 2025.
Brian Eric Konie,
Acting Manager, Rules and Regulations Group.

[FR Doc. 2025-17223 Filed 9-5-25; 8:45 am]

BILLING CODE 4910-13-P